DEPARTMENT OF ENERGY

Federal Energy Regulatory Commission

Notice of Termination of License by Implied Surrender and Soliciting Comments, Protests, and Motions To Intervene

January 16, 2007.

Take notice that the following hydroelectric proceeding has been initiated by the Commission:

a. Type of Proceeding: Termination of license by implied surrender.

b. Project No.: 7931-021.

c. Date Initiated: January 12, 2007.

d. Licensee/Transferor/Transferee: The license was involved in an uncompleted transfer proceeding. The licensee/transferor is Larry Hensley and the transferee is Eugene Mark Souza.

e. Name and Location of Project: The partially constructed 30-kilowatt 29 Mile Creek Project is located on the South Fork of the American River in El Dorado County, California and occupies lands of the United States within the El Dorado National Forest.

f. Filed Pursuant to: 18 CFR 6.4.

g. Licensee/Transferor/Transferee Contact Information: Larry Hensley, 5701 Hollyberry Lane, Placerville, CA 95667 and Eugene Mark Souza, 4595 Pacheco Boulevard, Martinez, CA 94553 or 108 Dawn Lane, Placerville, CA 95667.

h. FERC Contact: Tom Papsidero, (202) 502-6002.

i. Deadline for filing comments, protests, and motions to intervene: February 16, 2007.

All documents (original and eight copies) should be filed with Magalie R. Salas, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-7931-021) on any documents or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities: The partially constructed project consists of the following existing facilities: (1) A concrete diversion dam, 2-foot-high by 15-foot-long, and (2) a 1,800-foot-long, 6-inch steel pipe.

k. Description of Proceeding: 18 CFR 6.4 of the Commission's regulations provides, among other things, that it is deemed to be the intent of a licensee to surrender a license, if the licensee abandons a project for a period of three years.

By order issued August 10, 2000 (92 FERC ¶ 62,124), the Commission approved the transfer of the minor license, issued in 1986 (36 FERC ¶ 62,235), for the 29 Mile Creek Project No. 7931 from Mr. Larry Hensley to Mr. Eugene Mark Souza, and granted an extension of the previously-extended deadline in Article 301 of the license for completing construction of the project. Ordering paragraph (F) of the Order Approving Transfer of License and Granting Extension of Time issued August 10, 2000, stated that: “Approval of the transfer is contingent upon: (1) Transfer of title of the properties under license and delivery of all license instruments to Eugene Mark Souza, who shall be subject to the terms and conditions of the license as though he were the original licensee; and (2) Eugene Mark Souza acknowledging acceptance of this order and its terms and conditions by signing and returning the attached acceptance sheet. Within 60 days from the date of this order, Eugene Mark Souza shall submit certified copies of all instruments of conveyance and the signed acceptance sheet.”

To date the transferee has not filed the conveyance documents and acceptance sheets showing that the transfer has been completed, and neither the transferor/transferee has filed the required quarterly progress reports showing work done to complete construction of the project, nor any requests to extend the deadlines for filing the documents and reports.

l. Location of the Orders: A copy of each order is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the proceeding.

Comments, protests and interventions may be filed electronically via the Internet in lieu of paper; see 18 CFR 385.2001 (a)(1)(iii) and the instructions on the Commission's Web site under “e-filing” link. The Commission strongly encourages electronic filing.

o. Filing and Service of Responsive Documents: Any filings must bear in all capital letters the title “COMMENTS”, “PROTEST”, or “MOTION TO INTERVENE”, and “RECOMMENDATIONS FOR TERMS AND CONDITIONS”, as applicable, and the Project Number of the proceeding. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address.

p. Agency Comments: Federal, State, and local agencies are invited to file comments on the described proceeding. If an agency does not file comments within the time specified for filing comments, it will be presumed to have no comments.

Magalie R. Salas,
Secretary.

[FR Doc. E7-783 Filed 1-19-07; 8:45 am]

BILLING CODE 6717-01-P